FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 018678N.

Name: Air Trans Logistics (USA) Inc.

Address: 230-59 Int'l Airport Center Blvd., Suite 190, Springfield Gardens, NY 11413.

Date Revoked: July 26, 2006.

Reason: Failed to maintain a valid bond.

License Number: 014151N.

Name: Continental Consolidating Corporation.

Address: 8507 NW 72nd Street, Miami, FL 33166.

Date Revoked: July 22, 2006.

Reason: Failed to maintain a valid bond.

License Number: 015565N.

Name: International Equipment Logistics, Inc.

Address: 210 East Essex Avenue, Avenel, NJ 07001.

Date Revoked: July 21, 2006.

Reason: Failed to maintain a valid bond.

Sandra L. Kusumoto,
Director, Bureau of Certification and Licensing.

[FR Doc. E6-14720 Filed 9-5-06; 8:45 am]

BILLING CODE 6730-01-P